SMALL BUSINESS ADMINISTRATION

Reporting and Recordkeeping Requirements Under OMB Review

AGENCY: Small Business Administration.

ACTION: 30-Day notice.

SUMMARY: The Small Business Administration (SBA) is seeking approval from the Office of Management and Budget (OMB) for the information collection described below. In accordance with the Paperwork Reduction Act and OMB procedures, SBA is publishing this notice to allow all interested member of the public an additional 30 days to provide comments on the proposed collection of information.

DATES: Submit comments on or before November 4, 2020.

ADDRESSES: Comments should refer to the information collection by title and/or OMB Control Number and should be sent to: Agency Clearance Officer, Curtis Rich, Small Business Administration, 409 3rd Street SW, 5th Floor, Washington, DC 20416; and SBA Desk Officer, Office of Information and Regulatory Affairs, Office of Management and Budget, New Executive Office Building, Washington, DC 20503.

FOR FURTHER INFORMATION CONTACT: Curtis Rich, Agency Clearance Officer, (202) 205-7030 curtis.rich@sba.gov.

SUPPLEMENTARY INFORMATION: Copies: You may obtain a copy of the information collection and supporting documents from the Agency Clearance Officer.

Summary of Information Collections: SBA's Intermediary Lending Pilot Program (ILPP) makes direct loans to lending intermediaries for the purpose of making loans to startup, newly established, and growing small business concerns. These intermediaries provide information to SBA, which is used to monitor disbursement of ILPP loan proceeds, assess financial condition of the intermediaries, and monitor program effectiveness while minimizing risk to the federal taxpayer.

Solicitation of Public Comments: Comments may be submitted on (a) whether the collection of information is necessary for the agency to properly perform its functions; (b) whether the burden estimates are accurate; (c) whether there are ways to minimize the burden, including through the use of automated techniques or other forms of information technology; and (d) whether there are ways to enhance the quality, utility, and clarity of the information.

PRA 3245-0376

(1) Title: Intermediary Lending Pilot Program Reporting Requirements.

Description of Respondents: Lending Intermediaries.

Form Number's: 2418, 2419.

Estimated Annual Responses: 528.

Estimated Annual Hour Burden: 2,904.

Curtis Rich,
Management Analyst.

[FR Doc. 2020-21980 Filed 10-2-20; 8:45 am]

BILLING CODE 8026-03-P